ENVIRONMENTAL PROTECTION AGENCY

40 CFR Parts 152 and 174

[OPP-250127; FRL-6047-9]

RIN 2070-AC02

Final Regulations for Plant-Pesticides (Plant-Incorporated Protectants); Notification to the Secretary of Agriculture

AGENCY: Environmental Protection Agency (EPA).

ACTION: Notification to the Secretary of Agriculture.

SUMMARY: This document notifies the public that the Administrator of EPA has forwarded to the Secretary of Agriculture, a draft final rule under section 25(a) of the Federal Insecticide, Fungicide, and Rodenticide Act. The substances plants produce for protection against pests are pesticides under the Federal Insecticide, Fungicide, and Rodenticide Act definition of pesticide, if humans intend to use these substances for “preventing, destroying, repelling or mitigating any pest.” These substances, produced and used in living plants, along with the genetic material necessary to produce them, are currently called “plant-pesticides” by EPA. In this final rule, EPA will rename these pesticides, calling them “plant-incorporated protectants,” will exempt a category of plant-pesticides, will clarify the relationship between plants and plant-pesticides and confirm that plants used as biological control agents are exempt from regulation under the Federal Insecticide, Fungicide, and Rodenticide Act, and will establish new part 174 in Title 40 of the Code of Federal Regulations, specifically for plant-pesticides.

FOR FURTHER INFORMATION CONTACT: By mail: Philip Hutton, Biopesticides and Pollution Prevention Division, Office of Pesticide Programs (7511C), Environmental Protection Agency, 1200 Pennsylvania Ave., NW., Washington DC 20460; telephone number: (703) 308-8260; and e-mail address: hutton.phil@epa.gov.

SUPPLEMENTARY INFORMATION:

I. General Information

A. Does this Action Apply to Me?

This action is directed to the public in general for notification. This action may, however, be of interest to a person or company that may be involved with agricultural biotechnology that may develop and market plant-incorporated protectants. Since other entities may also be interested, the Agency has not attempted to describe all the specific entities that may be interested in this notice. If you have any questions regarding the applicability of this action to a particular entity, consult the person listed under FOR FURTHER INFORMATION CONTACT.

B. How Can I Get Additional Information, Including Copies of this Document and Other Related Documents?

Electronically. You may obtain electronic copies of this document, and certain other documents related to the proposed rule only that might be available electronically, from the EPA Internet Home Page at http://www.epa.gov/. The draft final rule is not available until it has been signed by EPA. To access this document, on the Home Page select “Laws and Regulations,” “Regulations and Proposed Rules,” and then look up the entry for this document under the “Federal Register—Environmental Documents.” You can also go directly to the Federal Registerlistings at http://www.epa.gov/fedrgstr/.

II. What Action is EPA Taking?

Section 25(a)(2) of FIFRA provides that the Administrator must provide the Secretary of Agriculture with a copy of any regulation at least 30 days before signing it for publication in the Federal Register. The draft final rule is not available to the public until after it has been signed by EPA. If the Secretary comments in writing regarding the draft final rule within 15 days after receiving it, the Administrator shall include in the final rule when published in the Federal Register the comments of the Secretary and the Administrator's response to those comments. If the Secretary does not comment in writing within 15 days after receiving the final rule, the Administrator may sign the final rule for publication in the Federal Register anytime after the 15-day period. As required by FIFRA section 25(a)(3), a copy of the final rule has been forwarded to the Committee on Agriculture of the House of Representatives and the Committee on Agriculture, Nutrition, and Forestry of the Senate. EPA issued a proposed rule in the Federal Register of November 23, 1994 (59 FR 60534) (FRL-4755-3).

III. Do Any Regulatory Assessment Requirements Apply to this Notification?

No. This document is not a rule, merely a notification of submission to the Secretary of Agriculture. As such, none of the regulatory assessment requirements apply to this document.

IV. Will EPA Submit this Notification to Congress and the Comptroller General?

No. This action is not a rule for purposes of the Congressional Review Act (CRA), 5 U.S.C. 804(3), and will not be submitted to Congress and the Comptroller General. EPA will submit the final rule to Congress and the Comptroller General as required by the CRA.

List of Subjects in Parts 152 and 174

Environmental protection, Administrative practice and procedure, Biotechnology pesticides, Pesticides and pests, Reporting and recordkeeping.

Dated: September 11, 2000.
Stephen L. Johnson,
Associate Deputy Assistant Administrator for the Office of Prevention, Pesticides and Toxic Substances.

[FR Doc. 00-23780 Filed 9-14-00 8:45 am]

BILLING CODE 6560-50-S